DEPARTMENT OF EDUCATION

[Docket No.: ED-2025-SCC-0910]

Agency Information Collection Activities; Comment Request; Trends in International Mathematics and Science Study (TIMSS 2027) Main Study International Questionnaire

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before January 12, 2026.

ADDRESSES: To access and review all the documents related to the information collection listed in this notice, please use http://www.regulations.gov by searching the Docket ID number ED-2025-SCC-0910. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the National Center for Education Statistics, U.S. Department of Education, 400 Maryland Ave. SW, LBJ, Room 5C125, Washington, DC 20202-1200.

FOR FURTHER INFORMATION CONTACT: For specific questions related to collection activities, please contact Matt Soldner, 202-453-7441.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Trends in International Mathematics and Science Study (TIMSS 2027) Main Study International Questionnaire.

OMB Control Number: 1850-0695.

Type of Review: A revision of a currently approved ICR.

Respondents/Affected Public: Individuals and Households.

Total Estimated Number of Annual Responses: 19,236.

Total Estimated Number of Annual Burden Hours: 8,047.

Abstract: The Trends in International Mathematics and Science Study (TIMSS), conducted by the National Center for Education Statistics (NCES), within the U.S. Department of Education (ED), is an international assessment of fourth and eighth grade students' achievement in mathematics and science. Since its inception in 1995, TIMSS has continued to assess students every 4 years (1995, 1999, 2003, 2007, 2011, 2015, 2019, and 2023), with the next TIMSS assessment, TIMSS 2027, being the ninth iteration of the study. In TIMSS 2023, 70 countries or education systems participated, and TIMSS 2027 is expected to have a similar scope. The United States will participate in TIMSS 2027 to continue to monitor the progress of its students compared to that of other nations and to provide data on factors that may influence student achievement.

TIMSS is led by the International Association for the Evaluation of Educational Achievement (IEA), an international collective of research organizations and government agencies that create the frameworks used to develop the assessment, the survey instruments, and the study timeline. IEA decides and agrees upon a common set of standards, procedures, and timelines for collecting and reporting data, all of which must be followed by all participating countries. As a result, TIMSS is able to provide a reliable and comparable measure of student skills in participating countries. In the U.S., NCES conducts this study in collaboration with the IEA and a number of contractors (RTI International, Measurement Incorportated, and Ideal Systems Solutions Inc.) to ensure proper implementation of the study and adoption of practices in adherence to the IEA's standards. Participation in TIMSS is consistent with NCES's mandate of acquiring and disseminating data on educational activities and student achievement in the United States compared with foreign nations [The Educational Sciences Reform Act of 2002 (ESRA 2002, 20 U.S.C. 9543)].

TIMSS 2027 will be a computer-based assessment (referred to as “eTIMSS”), administered electronically using the eTIMSS player. TIMSS 2027 will be the third eTIMSS assessment cycle in the United States.

In preparation for the TIMSS 2027 main study, all countries are asked to implement a 2026 field test. The purpose of the TIMSS field test is to evaluate newly developed assessment items and background questions, to test operational procedures of electronic administration of the assessment, to ensure practices that promote low exclusion rates, and to ensure that classroom sampling procedures proposed for the main study are successful. However, since the U.S. has participated successfully in all prior cycles and to contain costs, the U.S. will not participate in the field test of TIMSS 2027 and will only participate in the main study.

Because TIMSS is a collaborative effort among many parties, the United States must adhere to the international schedule set forth by the IEA, including the availability of final main study plans as well as draft and final questionnaires. In order to meet the international data collection schedule and to align with recruitment for other NCES studies (e.g., the National Assessment of Education Progress, NAEP), the current package requests approval to conduct the TIMSS 2027 main study sampling, recruitment and data collections. Recruitment for the main study will begin in Spring 2026 with data collection occurring in March through June 2027. The final internationally approved questionnaires for the main study are expected to be submitted via a change memo in January 2027.

Ross Santy,
Chief Data Officer, Office of Planning, Evaluation and Policy Development.

[FR Doc. 2025-19876 Filed 11-12-25; 8:45 am]

BILLING CODE 4000-01-P